OFFICE OF THE UNITED STATES TRADE REPRESENTATIVE

[Docket Number USTR-2018-0014; Dispute Number WT/DS546]

WTO Dispute Settlement Proceeding Regarding United States—Safeguard Measure on Imports of Large Residential Washers

AGENCY: Office of the United States Trade Representative.

ACTION: Notice with request for comments.

SUMMARY: The Office of the United States Trade Representative (USTR) is providing notice that the Republic of Korea (Korea) has requested the establishment of a dispute settlement panel under the Marrakesh Agreement Establishing the World Trade Organization (WTO Agreement) concerning the safeguard measure in effect on imports of large residential washers. You can find that request at www.wto.org in a document designated as WT/DS546/4. USTR invites written comments from the public concerning the issues raised in this dispute.

DATES: Although USTR will accept any comments during the course of the dispute settlement proceedings, you should submit your comment on or before November 15, 2018, to be assured of timely consideration by USTR.

ADDRESSES: USTR strongly prefers electronic submissions made the Federal eRulemaking Portal: http://www.regulations.gov. Follow the instructions for submitting comments in Section III below. The docket number is USTR-2018-0014. For alternatives to online submissions, please contact Sandy McKinzy at (202) 395-9483 before transmitting a comment and in advance of the relevant deadline.

FOR FURTHER INFORMATION CONTACT: Assistant General Counsel Juli Schwartz, (202) 395-9588.

SUPPLEMENTARY INFORMATION:

I. Background

Section 127(b)(1) of the Uruguay Round Agreements Act (URAA) (19 U.S.C. 3537(b)(1)) requires notice and opportunity for comment after the United States submits or receives a request for the establishment of a WTO dispute settlement panel. Pursuant to this provision, USTR is providing notice that Korea has requested a dispute settlement panel pursuant to the WTO Understanding on Rules Procedures Governing the Settlement of Disputes (DSU). The panel will hold its meetings in Geneva, Switzerland.

II. Major Issues Raised by Korea

On May 14, 2018, Korea requested consultations concerning the safeguard measure in effect pursuant to Proclamation 9594 of January 23, 2018—To Facilitate a Positive Adjustment to Competition from Imports of Large Residential Washers (83 FR 3553, January 25, 2018). You can find the consultation request at www.wto.org in a document designated as WT/DS546/1. Korea and the United States held consultations on June 26, 2018.

On August 14, 2018, Korea filed a request for the establishment a WTO dispute settlement panel. In its request for the establishment of a panel, Korea alleges that the United States' safeguard action is inconsistent with Articles 1, 2.1, 2.2, 3.1, 3.2, 4.1, 4.2, 5.1, 7.1, 7.4, 8.1, 12.1, 12.2 and 12.3 of the Agreement on Safeguards; and Articles I:1, II, X:3 and XIX:1(a) of the General Agreement on Tariffs and Trade 1994. The WTO Dispute Settlement Body established a panel on September 26, 2018.

III. Public Comments: Requirements for Submissions

USTR invites written comments concerning the issues raised in this dispute. All submissions must be in English and sent electronically via www.regulations.gov.

To submit comments via www.regulations.gov, enter docket number USTR-2018-0014 on the home page and click “search.” The site will provide a search-results page listing all documents associated with this docket. Find a reference to this notice by selecting “notice” under “document type” on the left side of the search-results page, and click on the link entitled “comment now!” For further information on using the www.regulations.gov website, please consult the resources provided on the website by clicking on “How to Use Regulations.gov” on the bottom of the home page.

The www.regulations.gov website allows users to provide comments by filling in a “type comment” field, or by attaching a document using an “upload file” field. USTR prefers that comments be provided in an attached document. If you attach a document, it is sufficient to type “see attached” in the “type comment” field. USTR prefers submissions in Microsoft Word (.doc) or Adobe Acrobat (.pdf). If the submission is in an application other than those two, please indicate the name of the application in the “type comment” field.

For any comments submitted electronically containing business confidential information, the file name of the business confidential version should begin with the characters “BC”. Any page containing business confidential information must be clearly marked “BUSINESS CONFIDENTIAL” on the top and bottom of that page and the submission should clearly indicate, via brackets, highlighting, or other means, the specific information that is business confidential. If you request business confidential treatment, you must certify in writing that disclosure of the information would endanger trade secrets or profitability, and that the information would not customarily be released to the public. Filers of submissions containing business confidential information also must submit a public version of their comments. The file name of the public version should begin with the character “P”. The “BC” and “P” should be followed by the name of the person or entity submitting the comments or rebuttal comments. For alternatives to online submissions, please contact Sandy McKinzy at (202) 395-9483 before transmitting a comment and in advance of the relevant deadline.

USTR may determine that information or advice contained in a comment, other than business confidential information, is confidential in accordance with section 135(g)(2) of the Trade Act of 1974 (19 U.S.C. 2155(g)(2)). If a submitter believes that information or advice is confidential, s/he must clearly designate the information or advice as confidential and mark it as “SUBMITTED IN CONFIDENCE” at the top and bottom of the cover page and each succeeding page, and provide a non-confidential summary of the information or advice.

Pursuant to Section 127(e) of the URAA (19 U.S.C. 3537(e)), USTR will maintain a docket on this dispute settlement proceeding, docket number USTR-2018-0014, accessible to the public at www.regulations.gov. The public file will include non-confidential public comments USTR receives regarding the dispute. If a dispute settlement panel is convened, or in the event of an appeal from a panel, USTR will make the following documents publicly available at www.ustr.gov: The U.S. submissions and any non-confidential summaries of submissions received from other participants in the dispute. If a dispute settlement panel is convened, or in the event of an appeal from a panel, the report of the panel, and, if applicable, the report of the Appellate Body, will also be available on the website of the World Trade Organization, at www.wto.org.

Juan Millan,
Assistant United States Trade Representative for Monitoring and Enforcement, Office of the U.S. Trade Representative.

[FR Doc. 2018-23055 Filed 10-22-18; 8:45 am]

BILLING CODE 3290-F9-P